DEPARTMENT OF HOMELAND SECURITY

Federal Emergency Management Agency

[Docket ID FEMA-2008-0014]

Draft Programmatic Environmental Assessment for the Evaluation of the Grant Programs Directorate's Programs

AGENCY: Federal Emergency Management Agency, DHS.

ACTION: Notice of availability and request for comments.

SUMMARY: The Federal Emergency Management Agency (FEMA) has prepared a draft Programmatic Environmental Assessment (PEA) to address the potential impacts to the human environment resulting from typical actions funded by FEMA's Grant Programs Directorate (GPD) through the wide variety of homeland security and emergency preparedness grant programs that it administers. These programs provide grant funding to States, Territories, and local and recognized Tribal governments to enhance their homeland security efforts. The grant monies provide for planning, conducting training and exercises, the purchase of equipment, and management and administration. The purpose of the PEA is to evaluate GPD programs and projects allowable under those programs, and to facilitate FEMA's compliance with the National Environmental Policy Act (NEPA) by providing a framework to address the potential environmental impacts of these projects.

FEMA is also making available for public comment a draft Memorandum of Understanding (MOU) between FEMA and the U.S. Fish and Wildlife Service (FWS) establishing procedures to monitor, assess, minimize and avoid avian mortalities from communication tower construction activities funded by FEMA. The MOU would be executed pursuant to Executive Order 13186—“Responsibilities of Federal Agencies to Protect Migratory Birds.”

FEMA also provides notice to the public of the availability of a FEMA comment on a draft program comment from the Advisory Council on Historic Preservation (ACHP) regarding the effects of communication facilities construction or modification subject to review by the Federal Communications Commission (FCC). The ACHP draft program comment recommends that projects funded by the National Telecommunications and Information Administration and projects funded by the Rural Utilities Service be exempt from the review required under Section 106 of the National Historic Preservation Act (NHPA) by applicable FCC Programmatic Agreements if the projects have undergone, will undergo, or are exempt from Section 106 review by the FCC. FEMA seeks to add GPD projects to that proposed exemption.

DATES: Comments on the draft Programmatic Environmental Assessment and on the draft Memorandum of Understanding between FEMA and the U.S. Fish and Wildlife Service must be submitted on or before May 10, 2010.

ADDRESSES: You may submit comments, identified by Docket ID FEMA-2008-0014, by one of the following methods:

Federal eRulemaking Portal: http://www.regulations.gov. Search for Docket ID FEMA-2008-0014 and follow the instructions for submitting comments.

E-mail: FEMA-POLICY@dhs.gov. Include Docket ID FEMA-2008-0014 in the subject line of the message.

Fax: 703-483-2999.

Mail/Hand Delivery/Courier: Office of Chief Counsel, Federal Emergency Management Agency, 500 C Street, SW., Room 835, Washington, DC 20472-3100.

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice that is available via a link in the footer of http:/www.regulations.gov.

Docket: For access to the docket to read the draft Programmatic Environmental Assessment, the draft Memorandum of Understanding between FEMA and the U.S. Fish and Wildlife Service, the FEMA comment on the draft program comment from the ACHP, or comments submitted by the public on these documents, go to the Federal eRulemaking Portal at http://www.regulations.gov and search for docket ID FEMA-2008-0014. These documents may also be inspected at FEMA, Office of Chief Counsel, Room 835, 500 C Street, SW., Washington, DC 20472-3100.

FOR FURTHER INFORMATION CONTACT: Jomar Maldonado, Environmental Officer, Office of Environmental Planning and Historic Preservation, FEMA, 500 C Street, SW., Washington, DC 20472-3100; phone (202) 646-2741; or Adria Martínez, Program Manager, GPD, FEMA, 500 C Street, SW., Techworld Bldg., Room 5142 Washington, DC 20472-3100; phone (202) 786-9603.

SUPPLEMENTARY INFORMATION:

Draft Programmatic Environmental Assessment for the Evaluation of the Grant Programs Directorate's Programs

The purpose of the draft Programmatic Environmental Assessment (PEA) is to evaluate the programs of the Grant Programs Directorate (GPD) and the projects allowable under these programs and facilitate FEMA's compliance with the National Environmental Policy Act (NEPA) by providing a framework to address the potential environmental impacts of those projects.

The PEA also provides the public and decision-makers with the information required to understand and evaluate the potential environmental consequences of actions funded by FEMA. In addition to meeting the goals of impact identification and disclosure, the PEA addresses the need to streamline the NEPA review process in the interest of national preparedness and homeland security.

The analysis presented in the PEA relies on FEMA's experience regarding environmental impacts that can be expected with actions that would be funded under GPD grant programs. It is also based on a review of scientific literature, consultation with regulatory and resource agencies, and expert opinion. FEMA will consider the analysis in the PEA to determine whether a Finding of No Significant Impact (FONSI) or a Notice of Intent to Prepare an Environmental Impact Statement is appropriate for the proposed actions described and assessed in the PEA.

FEMA will use the PEA to evaluate the environmental impacts of GPD grant programs and the projects funded by these programs. The PEA will also assist in determining when more site-specific information is needed and what level of environmental analysis and documentation is required in order for more complex projects to comply with NEPA.

Draft Memorandum of Understanding Between FEMA and the U.S. Fish and Wildlife Service

The purpose of the Memorandum of Understanding (MOU) is to establish procedures to be utilized by FEMA and the U.S. Fish and Wildlife Service (FWS) to monitor, assess, minimize and avoid avian mortalities from FEMA-sponsored telecommunication towers. Migratory birds are of great ecological and economic value to this country and to other countries. The United States has recognized the critical importance of this shared resource by ratifying international, bilateral conventions for the conservation of migratory birds. Under Executive Order (E.O.) 13186— “Responsibilities of Federal Agencies to Protect Migratory Birds,” Federal agencies are encouraged to negotiate MOUs with the FWS to promote the conservation of migratory birds for taking actions, such as development and implementation of programs, that have or are likely to have a measurable negative effect on migratory bird populations.

Avian mortality due to collisions with telecommunication towers is a well documented phenomenon that has prompted significant debate and litigation in the United States. GPD programs can be used to fund the modification or new construction of towers. As a result, FEMA is exercising its authorities and responsibilities under E.O. 13186, as well as related laws such as NEPA, the Migratory Bird Treaty Act, the Endangered Species Act, E.O. 11988—“Floodplain Management,” and E.O. 11990—“Protection of Wetlands,” to establish this framework.

FEMA Comment on a Draft Program Comment From the Advisory Council on Historic Preservation

On September 17, 2009, the Advisory Council on Historic Preservation (ACHP) published a notice for comment on its Draft Program Comment for the National Telecommunications and Information Administration and the U.S. Department of Agriculture's Rural Utilities Service Regarding the Effects of Communication Facilities Construction or Modification Subject to Review by the Federal Communications Commission (74 FR 47807). The draft program comment requests the elimination of duplicative National Historic Preservation Act (NHPA) Section 106 reviews for tower construction and modification projects sponsored by the Rural Utilities Service (RUS) and the National Telecommunications and Information Administration (NTIA) that have undergone, will undergo, or are exempt from Section 106 review under Federal Communication Commission (FCC) historic preservation procedures, which are governed by applicable FCC Programmatic Agreements.

FEMA believes that the ACHP draft program comment should be extended to grant-funded construction and modifications of telecommunication towers sponsored by FEMA. Among the eligible activities funded by GPD and critical to the Nation's readiness are the installation of new, or modification of existing, telecommunication towers and collocation of antennas on existing towers or non-tower structures to ensure interoperable communication between first responders during disasters or emergency events. FEMA believes that when grantees must satisfy the Section 106 review for both FEMA and FCC purposes, and the FCC requirements have been fulfilled for the project before the project is submitted to FEMA, a redundant level of effort is created that places an undue administrative burden upon grantees and State Historic Preservation Officers/Tribal Historic Preservation Officers (SHPOs/THPOs). This results in an unnecessary delay in the delivery of funds to the grantee for homeland security/emergency preparedness initiatives, and provides no additional value to the consideration of historic properties in keeping with the spirit and intent of Section 106. As a result, FEMA is providing comments to the ACHP to request the inclusion of FEMA's comment in the ACHP draft program comment.

Authority: National Environmental Policy Act (NEPA), as amended, 42 U.S.C. 4331 et seq.; 40 CFR 1500.1 et seq.; 44 CFR 10.1 et seq.

Dated: April 1, 2010.
W. Craig Fugate,
Administrator, Federal Emergency Management Agency.

[FR Doc. 2010-8006 Filed 4-7-10; 8:45 am]

BILLING CODE 9111-78-P